DEPARTMENT OF THE TREASURY

Internal Revenue Service

26 CFR Part 1

[REG-248110-96]

RIN 1545-AY48

Guidance Under Section 817A Regarding Modified Guaranteed Contracts; Correction

AGENCY: Internal Revenue Service (IRS), Treasury.

ACTION: Correction to notice of proposed rulemaking and notice of public hearing.

SUMMARY: This document contains a correction to a notice of proposed rulemaking and notice of public hearing (REG-248110-96) that was published in the Federal Register on Monday, June 3, 2002 (67 FR 38214). These regulations affect insurance companies that define the interest rate to be used with respect to certain insurance contracts that guarantee higher returns for an initial, temporary period.

FOR FURTHER INFORMATION CONTACT: Ann H. Logan, (202) 622-3970 (not a toll-free number).

SUPPLEMENTARY INFORMATION:

Background

The notice of proposed rulemaking and notice of public hearing that is the subject of this correction is under section 817A of the Internal Revenue Code.

Need for Correction

As published REG-248110-96 contains an error which may prove to be misleading and is in need of clarification.

Correction of Publication

Accordingly, the publication of the notice of proposed rulemaking and notice of public hearing (REG-248110-96), which is the subject of FR Doc. 02-13848, is corrected as follows:

On page 38215, column 2, in the preamble under the paragraph heading “Interest Rates Affecting Modified Guaranteed Contracts” first paragraph, lines twelve through fifteen, the language “The temporary guarantee may be a fixed rate (non-equity indexed modified guaranteed contracts) or a rate based on bond or equity yields (equity-indexed” is corrected to read “The temporary guarantee may be a rate based on stocks, other equity instruments, or equity-based derivatives (equity-indexed modified guaranteed contracts) or a rate that is not related to equity performance (non-equity-indexed modified guaranteed contracts).”.

Cynthia Grigsby,
Chief, Regulations Unit, Associate Chief Counsel (Income Tax and Accounting).

[FR Doc. 02-15353 Filed 6-18-02; 8:45 am]

BILLING CODE 4830-01-P